DEPARTMENT OF TRANSPORTATION

Surface Transportation Board

[STB Finance Docket No. 35035]

Adrian & Blissfield Rail Road Company—Acquisition and Operation Exemption—Tecumseh Branch Connecting Railroad Company

Adrian & Blissfield Rail Road Company (ADBF), a Class III rail carrier, has filed a verified notice of exemption under 49 CFR 1150.41 to acquire from Tecumseh Branch Connecting Railroad Company (TCBY) and to operate, approximately 1.3 miles of rail line between milepost 44.2 and milepost 45.5, in the City of Adrian, Lenawee County, MI.

As a result of a transaction between ADBF and TCBY on November 19, 2001, ADBF acquired the rail line as part of a corporate restructuring, but did not file its verified notice of exemption with the Board until October 9, 2009.¹ Thus, the effective date of the exemption is November 8, 2009 (30 days after the exemption is filed).²

¹ ADBF states that eliminating TCBY as a rail carrier through this acquisition will enable ADBF's owners to restructure their railroad holdings by filing a class exemption notice for continuance in control of three other disconnected short line railroads they control. It appears that ADBF's owners presently are not authorized to have common control of more than one rail carrier. If that is the case, the Board expects the owners to promptly submit an appropriate filing for authorization for that common control.

² The class exemption invoked by ADBF does not provide for retroactive effectiveness.

ADBF certifies that its projected annual revenues as a result of this transaction do not exceed those that would qualify it as a Class III carrier and that its projected annual revenues will not exceed $5 million.

According to ADBF, there is no provision or agreement that may limit future interchange with a third-party connecting carrier.

Pursuant to the Consolidated Appropriations Act, 2008, Public Law 110-161, § 193, 121 Stat. 1844 (2007), nothing in this decision authorizes the following activities at any solid waste rail transfer facility: collecting, storing or transferring solid waste outside of its original shipping container; or separating or processing solid waste (including baling, crushing, compacting and shredding). The term “solid waste” is defined in section 1004 of the Solid Waste Disposal Act, 42 U.S.C. 6903.

If the notice contains false or misleading information, the exemption is void ab initio. Petitions to revoke the exemption under 49 U.S.C. 10502(d) may be filed at any time. The filing of a petition to revoke does not automatically stay the effectiveness of the exemption. Petitions for stay must be filed no later than November 2, 2009.

An original and 10 copies of all pleadings, referring to STB Finance Docket No. 35035, must be filed with the Surface Transportation Board, 395 E Street, SW., Washington, DC 20423-0001. In addition, a copy of each pleading must be served on John D. Heffner, 1750 K Street, NW., Suite 200, Washington, DC 20006.

Board decisions and notices are available on our Web site at http://www.stb.dot.gov.

Decided: October 20, 2009.
By the Board, Rachel D. Campbell, Director, Office of Proceedings.
Kulunie L. Cannon,
Clearance Clerk.

[FR Doc. E9-25550 Filed 10-22-09; 8:45 am]

BILLING CODE 4915-01-P